DEPARTMENT OF THE INTERIOR

Fish and Wildlife Service

[FWS-R3-ES-2009-N270; 30120-1113-0000-F6]

Endangered and Threatened Wildlife and Plants; Permit Applications

AGENCY: Fish and Wildlife Service, Interior.

ACTION: Notice of availability of permit applications; request for comments.

SUMMARY: We, the U.S. Fish and Wildlife Service, invite the public to comment on the following applications to conduct certain activities with endangered species. With some exceptions, the Endangered Species Act (Act) prohibits activities with endangered and threatened species unless a Federal permit allows such activity. The Act requires that we invite public comment before issuing these permits.

DATES: We must receive any written comments on or before January 27, 2010.

ADDRESSES: Send written comments by U.S. mail to the Regional Director, Attn: Peter Fasbender, U.S. Fish and Wildlife Service, Ecological Services, 1 Federal Drive, Fort Snelling, MN 55111-4056; or by electronic mail to permitsR3ES@fws.gov.

FOR FURTHER INFORMATION CONTACT: Peter Fasbender, (612) 713-5343.

SUPPLEMENTARY INFORMATION:

Background

We invite public comment on the following permit applications for certain activities with endangered species authorized by section 10(a)(1)(A) of the Act (16 U.S.C. 1531 et seq.) and our regulations governing the taking of endangered species in the Code of Federal Regulations (CFR) at 50 CFR 17. Submit your written data, comments, or request for a copy of the complete application to the address shown in ADDRESSES. When submitting comments, please refer to the appropriate permit application number.

Permit Applications

Permit Application Number: TE120259-1

Applicant: Missouri Department of Conservation, Chillicothe, Missouri.

The applicant requests a permit renewal to take (capture and release, temporarily hold for propagation) Pallid Sturgeon (Scaphirhynchus albus) in the Missouri River, including its tributaries, and the Upper Mississippi River within the State of Missouri, and the Kansas River within the State of Kansas. Activities will be conducted in conjunction with long-term population assessment and recovery work. Proposed activities are aimed at enhancement of the survival of the species in the wild.

Permit Application Number: TE151107

Applicant: Redwing Ecological Services, Louisville, Kentucky.

The applicant requests a permit renewal to take (capture and release) the following endangered bat species: Indiana bat (Myotis sodalis), gray bat (Myotis grisescens), Virginia big-eared bat (Corynorhinus townsendii virginianus), and Ozark big-eared bat (Corynorhinus townsendii ingens). The applicant seeks authority throughout the range of the species in Regions 2, 3, 4, and 5 of the Service. Proposed activities are aimed at enhancement of survival of the species in the wild.

Permit Application Number: TE234121

Applicant: Western EcoSystems Technology, Inc., Cheyenne, Wyoming.

The applicant requests a permit to take (capture and release) Indiana bats, gray bats, Ozark big-eared bats, and Virginia big-eared bats throughout the range of the species, which includes Alabama, Arkansas, Connecticut, Florida, Georgia, Illinois, Indiana, Iowa, Kansas, Kentucky, Maryland, Michigan, Mississippi, Missouri, New Jersey, New York, North Carolina, Oklahoma, Ohio, Pennsylvania, Tennessee, Vermont, Virginia, and West Virginia. Proposed activities are aimed at enhancement of survival of the species in the wild.

Permit Application Number: TE120258

Applicant: Iowa Department of Natural Resources, Des Moines, Iowa.

The applicant requests a permit renewal to take (capture and release, collect voucher specimens) the Topeka shiner (Notropis topeka) throughout the State of Iowa to document species presence or absence. Proposed activities are for the enhancement of survival of the species in the wild.

Permit Application Number: TE023666

Applicant: Eric R. Britzke, Clinton, Mississippi.

The applicant requests a permit renewal to take (capture and release) Indiana bats, gray bats, Virginia big-eared bats, Ozark big-eared bats, and Northern flying squirrels (Glaucomys sabrinus) throughout the range of the species in Alabama, Arkansas, Georgia, Illinois, Indiana, Iowa, Kansas, Kentucky, Maryland, Massachusetts, Michigan, Mississippi, Missouri, New Hampshire, New Jersey, New York, North Carolina, Ohio, Oklahoma, Pennsylvania, Rhode Island, South Carolina, Tennessee, Vermont, Virginia, West Virginia, and Wisconsin. Proposed activities are for the enhancement of survival of the species in the wild.

Permit Application Number: TE194099

Applicant: Michael A. Hoggarth, Westerville, Ohio.

The applicant requests a permit renewal to take (capture and release, capture and relocate) purple cat's paw pearlymussel (Epioblasma obliquata obliquata), fanshell (Cyprogenia stegaria), white cat's paw (Epioblasma obliquata perobliqua), pink mucket pearly mussel (Lampsilis abrupta), rayed bean (Villosa fabalis), sheepnose (Plethobasus cyphyus), and clubshell (Pluerobema clava) mussels throughout the State of Ohio. Proposed activities are for the enhancement of survival of the species in the wild.

Permit Application Number: TE235639

Applicant: Jessica Hickey, P.I., Davey Resource Group, Kent, Ohio.

The applicant requests a permit renewal to take (capture and release) Indiana bats throughout Indiana, Kentucky, Ohio, Pennsylvania, and West Virginia. Proposed activities are for the enhancement of survival of the species in the wild.

Permit Application Number: TE120231

Applicant: John C. Timpone, Ballwin, Missouri.

The applicant requests an amendment and renewal of his permit to take (capture and release) Indiana bats. The amendment seeks to add the gray bat to the species authorized as well as additional states for authorized activities. The applicant seeks authority in Illinois, Kentucky, Maryland, Missouri, New Hampshire, New York, Pennsylvania, Ohio, and West Virginia. Proposed activities are for the enhancement of survival of the species in the wild.

Permit Application Number: TE181256

Applicant: Lewis Environmental Consulting, LLC, Murray, Kentucky.

The applicant requests a permit renewal to take (capture and release) clubshell, Northern riffleshell (Epioblasma torulosa rangiana), orange-footed pimpleback pearlymussel (Plethobasus cooperianus), pink mucket pearlymussel, rough pigtoe (Pleurobema plenum), purple cat's paw pearlymussel, white cat's paw pearlymussel, fanshell, fat pocketbook (Potamilus capax), Higgins' eye pearlymussel (Lampsilis higginsii), winged mapleleaf (Quadrula fragosa), scaleshell (Leptodea leptodon), ring pink (Obovaria retusa), and white wartyback (Plethobasus cicatricosus) mussels throughout the States of Alabama, Arkansas, Florida, Georgia, Kentucky, Illinois, Indiana, Iowa, Mississippi, Missouri, Ohio, Pennsylvania, Tennessee, West Virginia and Wisconsin. Proposed activities are for the enhancement of survival of the species in the wild.

Public Comments

We seek public review and comments on these permit applications. Please refer to the permit number when you submit comments. Comments and materials we receive are available for public inspection, by appointment, during normal business hours at the address shown in the ADDRESSES section. Before including your address, phone number, e-mail address, or other personal identifying information in your comment, you should be aware that your entire comment—including your personal identifying information—may be made publicly available at any time. While you can ask us in your comment to withhold your personal identifying information from public review, we cannot guarantee that we will be able to do so.

National Environmental Policy Act (NEPA)

In compliance with NEPA (42 U.S.C. 4321 et seq.), we have made an initial determination that the proposed activities in these permits are categorically excluded from the requirement to prepare an environmental assessment or environmental impact statement (516 DM 6 Appendix 1, 1.4C(1)).

Dated: December 16, 2009.
Lynn M. Lewis,
Assistant Regional Director, Ecological Services, Region 3.

[FR Doc. E9-30617 Filed 12-24-09; 8:45 am]

BILLING CODE 4310-55-P